UNITED STATES INSTITUTE OF PEACE

Announcement of the Spring 2006 Solicited Grant Competition Grant Program

AGENCY: United States Institute of Peace.

ACTION: Notice.

SUMMARY: The Agency Announces its Upcoming Spring 2006 Solicited Grant Competition. The Solicited Grant competition is restricted to projects that fit specific themes and topics identified in advance by the Institute of Peace.

The themes and topics for the Spring 2006 Solicited competition are:

• Solicitation A: Promoting Private Sector Economic Recovery in Countries Emerging from Violent Conflict

• Solicitation B: Electoral Politics and Islamic Political Parties and Groups in Muslim Majority Countries

Deadline: March 1, 2006. Application Material Available on Request and at http://www.usip.org/grants.

DATES: Receipt of Application: March 1, 2006. Notification Date: September 30, 2006.

ADDRESSES: For more information and an application package: United States Institute of Peace, Grant Program—Solicited Grants, 1200 17th Street, NW., Suite 200, Washington, DC 20036-3011, (202) 429-3842 (phone), (202) 833-1018 (fax), (202) 457-1719 (TTY), e-mail grants@usip.org.

FOR FURTHER INFORMATION CONTACT: The Grant Program. Phone (202)-429-3842. e-mail: grants@usip.org.

Dated: January 12, 2006.
Michael Graham,
Vice President for Administration.

[FR Doc. 06-408 Filed 1-17-06; 8:45 am]

BILLING CODE 6820-AR-M